DEPARTMENT OF TRANSPORTATION

Coast Guard

33 CFR Part 165

[CGD01-01-047]

RIN 2115-AA97

Safety Zone: Naval Force Protection, Bath Iron Works, Bath, ME

AGENCY: Coast Guard, DOT.

ACTION: Temporary final rule.

SUMMARY: The Coast Guard is establishing a temporary safety zone to close a portion of the Kennebec River to waterway traffic in a 400 foot radius around Bath Iron Works, Bath, Maine for the protection of Naval Forces, from 7 a.m. April 4, 2001 to 12 p.m. June 16, 2001. Entry into this safety zone is prohibited unless authorized by the Captain of the Port.

EFFECTIVE DATE: This rule is effective from 7 a.m. April 4, 2001 to 12 p.m. June 16, 2001.

ADDRESSES: Comments should be mailed to: Commanding Officer, U.S. Coast Guard Marine Safety Office, 103 Commercial St., Portland Maine 04101-4726. The Response and Planning Department, Coast Guard Marine Safety Office maintains the public docket for this rule making. Comments and material received from the public, as well as documents indicated in this preamble as being available in the docket, will become part of this docket and will be available for inspection or copying at the Coast Guard Marine Safety Office between 8 a.m. and 4 p.m., Monday through Friday, except for Holidays.

FOR FURTHER INFORMATION CONTACT: Lieutenant E. J. Doucette, Chief of Response and Planning, Captain of the Port, Portland at (207) 780-3251.

SUPPLEMENTARY INFORMATION:

Regulatory History

As authorized by 5 U.S.C. 553, a notice of proposed rulemaking (NPRM) was not published for this regulation. Good cause exists for not publishing a NPRM and for making this regulation effective in less than 30 days after Federal Register publication. Due to the complex planning and coordination involved, final details for the closure were not provided to the Coast Guard until April 2, 2001, making it impossible to publish a NPRM or a final rule 30 days in advance. Any delay encountered in this regulation's effective date would be contrary to public interest since immediate action is needed to safeguard the Naval vessels moored to the Bath Iron Works facility, the public and the surrounding area from sabotage or other subversive acts, accidents, or other causes of a similar nature.

Background and Purpose

The safety zone will occur from 7 a.m. April 4, 2001 to 12 p.m. June 16, 2001 at Bath Iron Works, Bath, Maine. This regulation establishes a safety zone in the waters of the Kennebec River. This safety zone is required to protect the Naval persons, facilities, and vessels from the hazards associated with terrorism. Entry into this zone will be prohibited unless authorized by the Captain of the Port.

Regulatory Evaluation

This temporary final rule is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040; February 26, 1979). The Coast Guard expects the economic impact of this proposal to be so minimal that a full Regulatory Evaluation under paragraph 10e of the regulatory policies and procedures of DOT is unnecessary. This safety zone involves only a 400-foot radius around Bath Iron Works. The effect of this regulation will not be significant for several reasons: The safety zone is limited in duration, the safety zone is limited in area, allowing mariners to transit in the river channel outside of the safety zone, and maritime advisories will be made in advance of and during the effective date of the safety zone.

Small Entities

Under the Regulatory Flexibility Act (5 U.S.C. 601 et seq.), the Coast Guard must consider whether this proposal will have a significant economic impact on a substantial number of small entities. Small entities may include (1) small businesses and not-for-profit organizations that are independently owned and operated and are not dominant in their fields and (2) governmental jurisdictions with populations of less than 50,000.

For the reasons addressed under the Regulatory Evaluation above, the Coast Guard expects the impact of this regulation to be minimal and certifies under section 605(b) of the Regulatory Flexibility Act (5 U.S.C. 601 et seq.) that this final rule will not have a significant economic impact on substantial number of small entities.

This rule will affect the following entities, some of which may be small entities: fishing vessels and construction vessels transiting the Kennebec River from 7 a.m. April 4, 2001 to 12 p.m. June 16, 2001. s

This safety zone will not have a significant economic impact on a substantial number of small entities for the following reasons: This rule will only be in effect for approximately 73 days, is limited in duration and area, and will be advertised in advance.

Assistance for Small Entities

Under section 213(a) of the Small Business Regulatory Enforcement Fairness Act of 1996 (Public Law 104-121), we offer to assist small entities in understanding the rule so that they may better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no collection of information requirements under the Paperwork Reduction Act (44 U.S.C. 3501 et seq.).

Federalism

The Coast Guard has analyzed this rule under the principles and criteria contained in Executive Order 113132 and have determined that this rule does not have sufficient federalism implications for Federalism under that order.

Unfunded Mandates Reform Act

The Unfunded Mandates Reform Act of 1995 (2 U.S.C. 1531-1538) governs the issuance of Federal regulations that require unfunded mandates. An Unfunded Mandate is a regulation that requires a state, local or tribal government or the private sector to incur costs without the Federal government's having first provided the funds to pay those costs. This rule will not impose an Unfunded Mandate.

Taking of Private Property

This rule will not effect a taking of private property or otherwise have taking implications under Executive Order 12630, Governmental Actions and Interference with Constitutionally Protected Property Rights.

Civil Justice Reform

This rule meets applicable standards in section 3(a) and 3(b)(2) of Executive Order 12988, Civil Justice Reform, to minimize litigation, eliminate ambiguity and reduce burden.

Protection of Children

The Coast Guard has analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard has considered the environmental impact of this regulation and concluded that, under Figure 2-1, paragraph 34(g) of Commandant Instruction M16475.1C, this rule is categorically excluded from further environmental documentation. A Categorical Exclusion Determination and an Environmental Analysis Checklist is available in the docket for inspection or copying.

List of Subjects in 33 CFR Part 165

Harbors, Marine safety, Navigation (water), Reporting and record keeping requirements, Security measures, Waterways.

Regulation

For the reasons set out in the preamble, the Coast Guard amends 33 CFR part 165 as follows:

1. The authority citation for part 165 continues to read as follows:

Authority: 33 U.S.C. 1231; 50 U.S.C. 191; 33 CFR 1.05-1(g), 6.04-1, 6.04-6 and 160.5; 49 CFR 1.46.

2. Add temporary section, 165.T01-047 to read as follows:

§ 165.T01-047 Naval Force Protection, Bath Iron Works, Bath, ME.

(a) Location. The following is a safety zone: all waters in a 400-foot radius around Bath Iron Works, Bath, ME.

(b) Effective date. 7 a.m. April 4, 2001 to 12 p.m. June 16, 2001.

(c) Regulations. (1) The general regulations contained in § 165.23 and the regulations specifically relating to safety zones in § 165.20 of this part apply.

(2) All persons and vessels shall comply with the instructions of the Coast Guard Captain of the Port or the designated on scene patrol personnel. Upon being hailed by designated personnel via siren, radio, flashing light, bull horn, or other means, the operator of the vessel and other persons inside the safety zone shall proceed as directed.

(3) Entry or movement within this zone is prohibited unless authorized by the Captain of the Port, Portland, ME.

Dated: April 4, 2001.
Roy A. Nash,
Commander, U.S. Coast Guard, Captain of the Port.

[FR Doc. 01-10420 Filed 4-25-01; 8:45 am]

BILLING CODE 4910-15-U